DEPARTMENT OF LABOR

Office of Workers' Compensation Programs

[OMB Control No. 1240-0054]

Proposed Extension of Information Collection; Disclosure of Medical Evidence

AGENCY: Office of Workers' Compensation Programs, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the OWCP is soliciting comments on the information collection for Disclosure of Medical Evidence.

DATES: All comments must be received on or before May 5, 2025.

ADDRESSES: You may submit comment as follows. Please note that late, untimely filed comments will not be considered.

Electronic Submissions: Submit electronic comments in the following way:

• Federal eRulemaking Portal: https://www.regulations.gov. Follow the instructions for submitting comments for [OWCP-2025-0002]. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP, Division of Coal Mine Workers' Compensation, 200 Constitution Avenue NW, Washington, DC 20210.

• OWCP will post your comment as well as any attachments, except for information submitted and marked as confidential, in the docket at https://www.regulations.gov.

FOR FURTHER INFORMATION CONTACT: Anjanette Suggs, Office of Office of Workers' Compensation Programs, at (202) 354-9660 (phone) or suggs.anjanette@dol.gov (email).

SUPPLEMENTARY INFORMATION:

I. Background

The Department's regulations implementing the Black Lung Benefits Act (BLBA), 30 U.S.C. 901 et seq., require parties to exchange all medical information about the miner they develop in connection with a claim for benefits, including information the parties do not intend to submit as evidence in the claim. See 20 CFR 725.413. The rule helps protect a miner's health, assist unrepresented parties, and promote accurate benefit determinations. The potential parties to a BLBA claim include the benefits claimant, the responsible coal mine operator and its insurance carrier, and the Director, Office of Workers' Compensation Programs (OWCP). Under this rule, a party or a party's agent who receives medical information about the miner must send a copy to all other parties within 30 days after receipt or, if a hearing before an administrative law judge has already been scheduled, at least 20 days before the hearing. The exchanged information is entered into the record of the claim only if a party submits it into evidence.

The Department's authority to engage in information collection is specified in BLBA sections 413(b), 422(a), and 426(a). See 30 U.S.C. 923(b), 932(a), and 936(a).

II. Desired Focus of Comments

OWCP is soliciting comments concerning the proposed information collection related to the Disclosure of Medical Evidence. OWCP is particularly interested in comments that:

Evaluate whether the collection of information is necessary for the proper performance of the functions of the Agency, including whether the information has practical utility; Evaluate the accuracy of OWCP's estimate of the burden related to the information collection, including the validity of the methodology and assumptions used in the estimate;

Suggest methods to enhance the quality, utility, and clarity of the information to be collected; and Minimize the burden of the information collection on those who are to respond, including through the use of appropriate automated, electronic, mechanical, or other technological collection techniques or other forms of information technology, e.g., permitting electronic submission of responses.

Documents related to this information collection request are available at https://regulations.gov and at DOL-OWCP located at 200 Constitution Avenue NW, Room C-3520, Washington, DC 20210. Questions about the information collection requirements may be directed to the person listed in the FOR FURTHER INFORMATION contact section of this notice.

III. Current Actions

This information collection request concerns Disclosure of Medical Evidence. OWCP has updated the data with respect to the number of respondents, responses, burden hours, and burden costs supporting this information collection request from the previous information collection request.

Type of Review: Extension without change of a currently approved collection.

Agency: Office of Workers' Compensation Programs.

OMB Number: 1240-0054.

Affected Public: Individuals or households; Business or other for profit; Not-for-profit institutions.

Number of Respondents: 6,797.

Number of Responses:6979.

Annual Burden Hours: 1,135 hours.

Annual Respondent or Recordkeeper Cost: $16,041.

OWCP Forms: DCMWC Form, Disclosure of Medical Evidence.

Comments submitted in response to this notice will be summarized in the request for Office of Management and Budget approval of the proposed information collection request; they will become a matter of public record and will be available at https://www.reginfo.gov.

Anjanette C. Suggs,
Certifying Officer.

[FR Doc. 2025-03421 Filed 3-3-25; 8:45 am]

BILLING CODE 4510-CK-P